DEPARTMENT OF ENERGY

Federal Energy Regulatory Commission

[Docket Nos. CP17-40-000; CP17-40-001]

Spire STL Pipeline Company, LLC; Notice of Schedule for Environmental Review of the Spire STL Pipeline Project

On January 26, 2017, Spire STL Pipeline, LLC (Spire) filed an application in Docket No. CP17-40-000 requesting a Certificate of Public Convenience and Necessity pursuant to Section 7(c) of the Natural Gas Act to construct and operate certain natural gas pipeline facilities. On April 21, 2017, Spire amended its application to incorporate various changes in project routing. The proposed project is known as the Spire STL Pipeline Project (Project), and would link the greater St. Louis Region to a new supply of gas, through transport of about 400,000 dekatherms per day of natural gas service.

On February 6, 2017, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—September 29, 2017

90-day Federal Authorization Decision—Deadline December 28, 2017

If a schedule change becomes necessary, additional notice will be provided so that the relevant agencies are kept informed of the Project's progress.

Project Description

The proposed Project includes (i) about 65 miles of new 24-inch-diameter pipeline in Scott, Greene, and Jersey Counties, Illinois and St. Charles and St. Louis Counties, Missouri, (ii) a new meter station in Scott County, Illinois, (iii) two new meter stations in St Louis County, Missouri, and (iv) additional piping and pigging facilities at each of the three meter stations.

Background

During the Commission's pre-filing process, on October 26, 2016, the Commission issued a Notice of Intent to Prepare an Environmental Assessment for the Planned Spire STL Pipeline Project, Request for Comments on Environmental Issues, and Notice of Public Scoping Sessions. Subsequent to this notice, Spire filed a potential pipeline route alternative in St. Louis County, Missouri. Therefore, on March 3, 2017, the Commission issued a Supplemental Notice of Intent to Prepare an Environmental Assessment for the Proposed Spire STL Pipeline Project and Request for Comments on Environmental Issues. These two notices were published in the Federal Register ¹ and mailed to 1,141 and 342 interested parties, respectively, including affected landowners; federal, state, and local government agencies; elected officials; environmental and public interest groups; Native American tribes; other interested parties; and local libraries and newspapers. In response to these two notices, the Commission received comments from The U.S. Environmental Protection Agency, the National Park Service, Missouri Department of Conservation, Missouri Department of Natural Resources, Osage Nation Historic Preservation Office, the Miami Tribe of Oklahoma, the Winnebago Tribe, several labor unions, and 13 landowners. The primary issues raised by the commentors include concerns for the proposed crossing of the Mississippi River regarding contamination of a public water source, construction on steep slopes, opposition to the Chautauqua alternative, concerns for impacts on the Upper Mississippi River Conservation Area, land held in conservation easement/habitat programs (specifically the conservation reserve and quail habitat programs), historic trails, Principia College/Three Rivers Community Farm, and safety.

¹ 81 Federal Register 31922.

The U.S. Army Corps of Engineers and Illinois Department of Agriculture are cooperating agencies in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the eLibrary link, select General Search from the eLibrary menu, enter the selected date range and “Docket Number” excluding the last three digits (i.e., CP17-40), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: August 3, 2017.
Kimberly D. Bose,
Secretary.

[FR Doc. 2017-16749 Filed 8-8-17; 8:45 am]

BILLING CODE 6717-01-P